DEPARTMENT OF TRANSPORTATION

Pipeline and Hazardous Materials Safety Administration

[Docket No. PHMSA-2016-0149] Donlin Gold LLC

Pipeline Safety: Request for Special Permit

AGENCY: Pipeline and Hazardous Materials Safety Administration (PHMSA), DOT.

ACTION: Notice.

SUMMARY: PHMSA is publishing this notice to seek public comments on a request for special permit, seeking relief from compliance with certain requirements in the federal pipeline safety regulations. At the conclusion of the 60-day comment period, PHMSA will review the comments received from this notice as part of its evaluation to grant or deny the special permit request.

DATES: Submit any comments regarding this special permit request by June 2, 2017.

ADDRESSES: Comments should reference the docket number for the specific special permit request and may be submitted in the following ways:

• E-Gov Web site: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE., Washington, DC 20590.

• Hand Delivery: Docket Management System: U.S. Department of Transportation, Docket Operations, M-30, West Building Ground Floor, Room W12-140, 1200 New Jersey Avenue SE., Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: Comments are posted without changes or edits to http://www.Regulations.gov, including any personal information provided. There is a privacy statement published on http://www.Regulations.gov.

FOR FURTHER INFORMATION CONTACT: General: Ms. Kay McIver by telephone at 202-366-0113, or email at kay.mciver@dot.gov.

Technical: Mr. Steve Nanney by telephone at 713-628-7479, or email at Steve.Nanney@dot.gov.

SUPPLEMENTARY INFORMATION: PHMSA has received a special permit request from a pipeline operator seeking relief from compliance with certain federal pipeline safety regulations. The request includes a technical analysis, environmental assessment, proposed special permit conditions, and location map for the pipeline provided by the operator and has been filed at http://www.Regulations.gov under docket number PHMSA-2016-0149. We invite interested persons to participate by reviewing the special permit request and supporting documents for implementing the special permit request versus designing, constructing, operating, and maintaining the pipeline in accordance with Part 192 at http://www.Regulations.gov and by submitting written comments, data or other views concerning the request. Please include any comments on potential safety, environmental impacts, and any additional conditions that should be considered if the special permit is granted.

Before issuing a decision on the special permit request, PHMSA will evaluate all comments received on or before the comment closing date. Comments received after the closing date will be evaluated if it is possible to do so without incurring additional expense or delay. PHMSA will consider each relevant comment we receive in making our decision to grant or deny the request.

PHMSA has received a special permit request from Donlin Gold, LLC, (DGLLC), to deviate from the pipeline safety regulations in its construction, design, and operations and maintenance (O&M) of a 14-inch, 315-mile pipeline. The proposed pipeline would transport natural gas from the Cook Inlet in Alaska to the Donlin Gold project site in Western Alaska. The lead agency responsible for authorizing siting and construction of the Donlin Gold mine and pipeline servicing the mine is the U.S. Army Corps of Engineers (USACE). The USACE has prepared a draft environmental impact statement (DEIS).

DGLLC has requested that PHMSA allow the use of Strain-Based Design (SBD) for segments of the pipeline. PHMSA regulates the design, construction and operation of natural gas transmission pipelines under 49 CFR part 192. Use of SBD would allow the proposed pipeline to be buried in permafrost and discontinuous permafrost soils. SBD is not specifically addressed in Part 192. These soils exert significant strains on a pipeline due to thaw settlement, frost heave, and ground movements.

PHMSA is considering issuing a special permit with conditions that would require specific materials, engineering, construction, and O&M procedures to mitigate the external forces of thaw settlement and longitudinal bending strains that exceed allowed limits in the specified SBD Segments.

The proposed SBD special permit conditions are designed to achieve the level of safety that is normally achieved through full compliance with 49 CFR part 192, including §§ 192.103, 192.105, 192.111, 192.317, and 192.619. The pipeline will supply gas to provide heating and generate electricity to power the industrial equipment at the gold mine.

The pipeline origin will tie into an existing natural gas pipeline at Cook Inlet, approximately 30-miles (48 kilometers) northwest of Anchorage at a tie-in near Beluga, Alaska, and will terminate at the Donlin Gold mine site. The first 117 miles of the pipeline will be located within the Matanuska-Sustina Borough, while the remainder of the 315-mile pipeline, including all the requested SBD segments, will be located in the Unorganized Borough. The pipeline terminus at Mile Post 315 is about 10-miles (16 kilometers) north of the village of Crooked Creek, Alaska.

The project design pressure and maximum allowable operating pressure will be 1,480 pounds per square inch gauge (psig). The minimum delivery pressure required at the mine is 550 psig. PHMSA's EA references USACE's DEIS, which is also available in Docket No. PHMSA-2016-0149. The USACE's DEIS of the Donlin Gold Project can be assessed at http://www.donlingoldeis.com/.

Issued in Washington, DC, on March 28, 2017, under authority delegated in 49 CFR 1.97.
Alan K. Mayberry,
Associate Administrator for Pipeline Safety.

[FR Doc. 2017-06404 Filed 3-31-17; 8:45 am]

BILLING CODE 4910-60-P